DEPARTMENT OF TRANSPORTATION

National Highway Traffic Safety Administration

[Docket No. NHTSA-2010-0063; Notice 1]

Foreign Tire Sales, Inc., Receipt of Petition for Decision of Inconsequential Noncompliance

Foreign Tire Sales, Inc. (FTS) ¹, as importer of record for ProMeter brand medium truck radial replacement tires manufactured by Shandlong Linglong Rubber Company Limited has determined that certain replacement tires manufactured during the period between the 15th week of 2008 and 22nd week of 2009 do not fully comply with paragraph S6.5(d) of 49 CFR 571.119 Federal Motor Vehicle Safety Standard (FMVSS) No. 119, New Pneumatic Tires for Motor Vehicles With a GVWR of More than 4,536 Kilograms (10,000 pounds) and Motorcycles. FTS has filed an appropriate report pursuant to 49 CFR part 573, Defect and Noncompliance Responsibility and Reports.

¹ Foreign Tire Sales, Inc. is an importer of replacement motor vehicle equipment, incorporated under the laws of the State of New Jersey, with offices at 2204 Morris Avenue, Suite L-5, Union, New Jersey.

Pursuant to 49 U.S.C. 30118(d) and 30120(h) (see implementing rule at 49 CFR part 556), FTS has petitioned for an exemption from the notification and remedy requirements of 49 U.S.C. Chapter 301 on the basis that this noncompliance is inconsequential to motor vehicle safety.

This notice of receipt of FTS's petition is published under 49 U.S.C. 30118 and 30120 and does not represent any agency decision or other exercise of judgment concerning the merits of the petition.

Affected are approximately 2,659 size 285/75R-24.5 14 ply (steer and drive) and 295/75R-22.5 14 ply (steer and drive) ProMeter brand medium truck radial tires manufactured during the period between the 15th week of 2008 and 22nd week of 2009 with DOT Numbers: 285/75R-24.5—OU4CFTS1508-0U4CFT2209 and

295/75R-22.5—OU34FTS1508-0U34FTS2209. FTS stated that it believed that 100% of the 2,659 tires involved contained the identified non-compliance.

FTS sold these tires to eleven customers who are distributors. Three of the eleven distributors have not sold any tires to their customers.

In a supplemental letter dated April 14, 2010, FTS submitted corrections of typographical errors in its petition and stated that subsequent to submitting its petition it had decided to remedy all of the subject tires that it held in its possession as well as those that had not been sold by its customers (tire distributers). FTS also revised its estimate of the number of affected tires that had been sold and not retrieved for remedy as 2000. Therefore, it is only those 2000 tires for which FTS is requesting exemption because it claims that the remaining 659 tires have been remedied.

Paragraph S6.5(d) of 49 CFR 571.119 (FMVSS 119) requires in pertinent part:

S6.5 Tire markings. Except as specified in this paragraph, each tire shall be marked on each sidewall with the information specified in paragraphs (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less than 0.4 mm (0.015 inch), except that the marking depth shall be not less than 0.25 mm (0.010 inch) in the case of motorcycle tires. The tire identification and the DOT symbol labeling shall comply with part 574 of this chapter. Markings may appear on only one sidewall and the entire sidewall area may be used in the case of motorcycle tires and recreational, boat, baggage, and special trailer tires * * *

(d) The maximum load rating and corresponding inflation pressure of the tire, shown as follows:

(Mark on tires rated for single and dual load): Max load single ___kg (___lb) at ___kPa (___psi) cold. Max load dual ___kg (___lb) at ___kPa (___psi) cold.

(Mark on tires rated only for single load): Max load ___kg (___lb) at ___kPa (___psi) cold.

FTS describes the noncompliance as its failure to provide accurate load and inflation information as required by FMVSS No. 119. The maximum load rating and corresponding inflation pressure that are erroneously marked on the FTS tires and the correct information for the non-conforming tires are as follows:

295/75R22.5/14 is marked:

Max. Load Single 2800 kg (6175 lbs) at 720 kPa (105 psi) cold.

Max. Load Dual 2650 kg (5840 lbs) at 720 kPa (105 psi) cold.

295/75R22.5/14 should be marked:

Max. Load Single 2800 kg (6175 lbs) at 760 kPa (110 psi) cold.

Max. Load Dual 2575 kg (5675 lbs) at 760 kPa (110 psi) cold.

285/75R24.5/14 is marked:

Max. Load Single 3000 kg (6610 lbs) at 720 kPa (105 psi) cold.

Max. Load Dual 2725 kg (6005 lbs) at 720 kPa (105 psi) cold.

285/75R24.5/14 should be marked:

Max. Load Single 2800 kg (6175 lbs) at 760 kPa (110 psi) cold.

Max. Load Dual 2575 kg (5675 lbs) at 760 kPa (110 psi) cold.

FTS states that the non-compliance of their tires was brought to their attention on June 9, 2009, “when new molds were ordered and the old molds were compared to the new molds.”

FTS also states that it has advised the manufacturer to hold any additional non-conforming tires and to change the inaccurate information before exporting them to the United States.

FTS argues that the inaccurate markings on the tires are inconsequential because the difference between the proper load ranges and inflation pressures are minimal. FTS bases their conclusion on their testing of the subject tires using the inaccurate information noted on their tires, and FTS asserts that the tires “greatly exceed all FMVSS testing result requirements.” Specifically, FTS points out that they subjected the tested tires to a modified FMVSS No. 119 endurance test which they state “is far more demanding than the requirements of FMVSS 119.”

FTS submitted with their application for exemption from notification and recall a copy of the original Chinese and English translation of the eight endurance test reports. FTS states that “These tests performed using the load inflation information which appears on the subject tires clearly indicates that even at the wrong inflation pressure, these tires greatly exceed FMVSS 119 and are safe.” FTS additionally states that “the mislabeling of the tires poses absolutely no safety issue since even if a user of the tires inflates the tire to the load inflation pressure contained on the side wall of the subject tire, we know that the tire greatly exceeds all requirements (i.e. the tires ran almost three times longer than required by FMVSS 119 at loads increased by 10% every ten hours (nine times over 130 hours)).”

Based on the foregoing, FTS requests that NHTSA deem this issue as “incidental mislabeling” and that it has no bearing on the safety of the tires, and that FTS be exempted from providing notification as required by 49 U.S.C. 30118 and remedy as required by 49 U.S.C. 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: July 8, 2010.

Authority: 49 U.S.C. 30118, 30120: delegations of authority at CFR 1.50 and 501.8.

Issued on: June 2, 2010.
Claude H. Harris,
Director, Office of Vehicle Safety Compliance.

[FR Doc. 2010-13612 Filed 6-7-10; 8:45 am]

BILLING CODE 4910-59-P